DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Public Law 106-393) the Kootenai National Forest's Lincoln County Resource Advisory Committee will meet on Wednesday, March 24, 2010 at 6 p.m. at the Forest Supervisor's Office in Libby, Montana, for a business meeting. The meeting is open to the public.

DATES: March 24, 2010.

ADDRESSES: Forest Supervisor's Office, 31374 US Hwy 2, Libby, Montana.

FOR FURTHER INFORMATION CONTACT: Janette Turk, Committee Coordinator, Kootenai National Forest at (406) 283-7764, or e-mail jturk@fs.fed.us.

SUPPLEMENTARY INFORMATION: Agenda will include new member introductions, review of last year project status, 2009 project proposals, Title II budget allocations and receiving public comment. If the meeting date or location is changed, notice will be posted in the local newspapers, including the Daily Interlake based in Kalispell, Montana.

Dated: March 10, 2010.
Paul Bradford,
Forest Supervisor.

[FR Doc. 2010-5903 Filed 3-18-10; 8:45 am]

BILLING CODE 3410-11-M